DEPARTMENT OF DEFENSE

Office of the Secretary

32 CFR Part 291

[Docket ID: DOD-2017-OS-0021]

RIN 0790-AJ62

Defense Nuclear Agency (DNA) Freedom of Information Act Program

AGENCY: Defense Nuclear Agency, DoD.

ACTION: Final rule.

SUMMARY: This final rule removes DoD's regulation concerning the Defense Threat Reduction Agency (DTRA), formerly the Defense Nuclear Agency (DNA) Freedom of Information Act program. On February 6, 2018, the DoD published a revised FOIA program rule as a result of the FOIA Improvement Act of 2016. When the DoD FOIA program rule was revised, it included DoD component information and removed the requirement for component supplementary rules. The DoD now has one DoD-level rule for the FOIA program at 32 CFR part 286 that contains all the codified information required for the Department. Therefore, this part can be removed from the CFR.

DATES: This rule is effective on May 2, 2018.

FOR FURTHER INFORMATION CONTACT: Pam Andrews at 703-767-6325.

SUPPLEMENTARY INFORMATION: It has been determined that publication of this CFR part removal for public comment is impracticable, unnecessary, and contrary to public interest since it is based on removing DoD internal policies and procedures that are publically available on the Department's website.

DTRA internal guidance concerning the implementation of the FOIA within DTRA will continue to be published in DTRA Instruction 5400.7 (available at http://www.dtra.mil/Home/Freedom-of-Information-Act-and-Privacy-Act/Electronic-Reading-Room/).

This rule is one of 14 separate DoD FOIA rules. With the finalization of the DoD-level FOIA rule at 32 CFR part 286, the Department is eliminating the need for this separate FOIA rule and reducing costs to the public as explained in the preamble of the DoD-level FOIA rule published at 83 FR 5196-5197.

This rule is not significant under Executive Order (E.O.) 12866, “Regulatory Planning and Review,” therefore, E.O. 13771, “Reducing Regulation and Controlling Regulatory Costs” does not apply.

List of Subjects in 32 CFR Part 291

Freedom of information.

PART 291—[REMOVED]

Accordingly, by the authority of 5 U.S.C. 301, 32 CFR part 291 is removed.

Dated: April 27, 2018.
Aaron T. Siegel,
Alternate OSD Federal Register Liaison Officer, Department of Defense.

[FR Doc. 2018-09295 Filed 5-1-18; 8:45 am]

BILLING CODE 5001-06-P